ENVIRONMENTAL PROTECTION AGENCY

[FRL-9984-31-Region 9]

Public Water System Supervision Program Revision for the State of Hawaii

AGENCY: Environmental Protection Agency (EPA).

ACTION: Notice of tentative approval.

SUMMARY: Notice is hereby given that the State of Hawaii revised its approved Public Water System Supervision Program (PWSSP) under the federal Safe Drinking Water Act (SDWA) by adopting the Stage 1 Disinfectants and Disinfection Byproducts Rule, Stage 2 Disinfectants and Disinfection Byproducts Rule, Long Term 2 Enhanced Surface Water Treatment Rule, Lead and Copper Rule Short-Term Regulatory Revisions and Clarifications, Revised Total Coliform Rule, and the expanded Public Water System definition. The Environmental Protection Agency (EPA) has determined that these revisions by the State of Hawaii are no less stringent than the corresponding Federal regulations and otherwise meet applicable SDWA primacy requirements. Therefore, EPA intends to approve these revisions to the State of Hawaii's PWSSP.

DATES: Request for a public hearing must be received on or before October 29, 2018.

ADDRESSES: All documents relating to this determination are available for inspection between the hours of 8:30 a.m. and 4:00 p.m., Monday through Friday, except official State holidays (for the Hawaii location) and official Federal holidays (for the two EPA locations), at the following offices: Hawaii Department of Health, Safe Drinking Water Branch, 2385 Waimano Home Road, Uluakupu Building 4, Pearl City, Hawaii 96782; United States Environmental Protection Agency, Region 9, Pacific Islands Office, 300 Ala Moana Blvd., Room 5124, Honolulu, Hawaii 96850; and United States Environmental Protection Agency, Region 9, Drinking Water Management Section, 75 Hawthorne Street (WTR-3-1), San Francisco, California 94105. Documents relating to this determination are also available online at http://health.hawaii.gov/sdwb/public-notices/ for inspection.

FOR FURTHER INFORMATION CONTACT: Anna Yen, EPA Region 9, Drinking Water Management Section, at the address given above; telephone number: (415) 972-3976; email address: yen.anna@epa.gov.

SUPPLEMENTARY INFORMATION: Background. EPA approved the State of Hawaii's original application for PWSSP primary enforcement authority which, following the public notice period, became effective on October 20, 1977 (42 FR 47244, no request for public hearing received). EPA subsequently approved and finalized revisions to the State of Hawaii's PWSSP on the following dates: May 6, 1993 (58 FR 17892); July 19, 1993 (58 FR 33442); September 29, 1993 (58 FR 45491); March 13, 1995 (60 FR 7962); May 23, 1996 (61 FR 17892); July 31, 2015 (80 FR 45656), and December 8, 2017 (82 FR 57981).

Public process. Any interested party may request a public hearing on this determination. A request for a public hearing must be submitted by October 29, 2018, to the Regional Administrator at the EPA Region 9 address shown above. The Regional Administrator may deny frivolous or insubstantial requests for a hearing. If a substantial request for a public hearing is made by October 29, 2018, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA Region 9 does not receive a timely and appropriate request for a hearing and the Regional Administrator does not elect to hold a hearing on his own motion, this determination shall become final and effective on October 29, 2018, and no further public notice will be issued.

Authority: Section 1413 of the Safe Drinking Water Act, as amended, 42 U.S.C. 300g-2 (1996), and 40 CFR part 142 of the National Primary Drinking Water Regulations.

Dated: August 24, 2018.
Deborah Jordan,
Acting Regional Administrator, EPA, Region 9.

[FR Doc. 2018-20853 Filed 9-27-18; 8:45 am]

BILLING CODE 6560-50-P